DEPARTMENT OF TRANSPORTATION

Pipeline and Hazardous Materials Safety Administration

Hazardous Materials: Actions on Special Permit Applications

AGENCY: Office of Hazardous Materials Safety, Pipeline and Hazardous Materials Safety Administration (PHMSA), DOT.

ACTION: Notice of actions on special permit applications.

SUMMARY: In accordance with the procedures governing the application for, and the processing of, special permits from the Department of Transportation's Hazardous Material Regulations (49 CFR part 107, subpart B), notice is hereby given of the actions on special permits applications in (October to October 2014). The mode of transportation involved are identified by a number in the “Nature of Application” portion of the table below as follows: 1—Motor vehicle, 2—Rail freight, 3—Cargo vessel, 4—Cargo aircraft only, 5—Passenger-carrying aircraft. Application numbers prefixed by the letters EE represent applications for Emergency Special Permits. It should be noted that some of the sections cited were those in effect at the time certain special permits were issued.

Issued in Washington, DC, on June 28, 2016.
Ryan Paquet,
Director, Approvals and Permits.

S.P. No. | Applicant | Regulation(s) | Nature of special permit thereof
MODIFICATION SPECIAL PERMIT GRANTED
14751-M | Univation Technologies, LLC, Houston, TX | 49 CFR 173.242 | To modify the special permit to authorize adding additional drawings.
NEW SPECIAL PERMIT GRANTED
16571-N | Chevron USA Inc., Picayune, MS | 49 CFR 172.101 Hazardous Materials Table Column (9A) | To authorize the transportation in commerce of certain hazardous materials which exceed the authorized quantity limitations or are forbidden aboard passenger-carrying aircraft. (mode 5)
DENIED
16495-N | Request by TransRail Innovation Inc. Calgary, May 06, 2016. To authorize the manufacture, installation, and service trials of 50 rail tank cars containing Class 3 hazardous materials each with a sensor device mounted to the rail tank car prior to, or in conjunction with, the completion of tile quality assurance program for the tank car facility.

[FR Doc. 2016-16068 Filed 7-8-16; 8:45 am]

BILLING CODE 4909-60-M